DEPARTMENT OF COMMERCE

National Oceanic and Atmospheric Administration

Marine Protected Areas Federal Advisory Committee

AGENCY: National Ocean Service, NOAA, Department of Commerce.

ACTION: Extension of deadline for nominations for the Marine Protected Areas Federal Advisory Committee.

SUMMARY: The Department of Commerce published a notice in the Federal Register on September 26, 2006 (71 FR 45107) seeking nominations for membership on the Marine Protected Areas Federal Advisory Committee (Committee). The deadline for nominations by qualified persons to the Committee is hereby extended.

DATES: The extended deadline for nominations to the Committee is November 30, 2006.

ADDRESSES: Nominations should be sent to Lauren Wenzel, National Oceanic and Atmospheric Administration, National marine Protected Areas Center, 1305 East West Highway, Station #12227, Silver Spring, MD 20910. E-mail: Lauren.wenzel@noaa.gov. E-mail nominations are acceptable.

FOR FURTHER INFORMATION CONTACT: Refer to the Federal Register notice of September 26, 2006, or contact Lauren Wenzel, (301) 713-3100 x136, Lauren.wenzel@noaa.gov.

Dated: October 26, 2006.
Elizabeth R. Scheffler,
Associate Assistant Administrator for Management, National Ocean Service.

[FR Doc. 06-9013 Filed 10-31-06; 8:45 am]

BILLING CODE 3510-08-M